DEPARTMENT OF AGRICULTURE

Food and Nutrition Service

Agency Information Collection Activities: Commodity Supplemental Food Program Participant Characteristics and Program Operations Study

AGENCY: Food and Nutrition Service (FNS), USDA.

ACTION: Notice.

SUMMARY: In accordance with the Paperwork Reduction Act of 1995, this notice invites the general public and other public agencies to comment on this proposed information collection. This is a new information collection request in which FNS seeks a description of Commodity Supplemental Food Program (CSFP) participant characteristics and program operations. CSFP provides free groceries to approximately 700,000 low-income seniors each month and is administered by 60 State agencies, approximately 250 local agencies, and approximately 9,000 distribution sites.

DATES: Written comments must be received on or before October 4, 2024.

ADDRESSES: Comments may be sent to Rachel Zack, Office of Policy Support, Food and Nutrition Service, U.S. Department of Agriculture, 1320 Braddock Place, Alexandria, VA 22314. Comments may also be submitted via email to Rachel.Zack@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Alexander Bush at Alexander.Bush@usda.gov or by phone 202-302-4693.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Commodity Supplemental Food Program Participant Characteristics and Program Operations (CSFP PCPO) Study.

Form Number: Not applicable.

OMB Number: 0584-NEW.

Expiration Date: Not Yet Determined.

Type of Request: New collection.

Abstract: Administered by the U.S. Department of Agriculture's (USDA) Food and Nutrition Service (FNS), the Commodity Supplemental Food Program (CSFP) provides USDA Foods to income-eligible seniors aged 60 years and older. This will be the first comprehensive nationally representative study of CSFP participant characteristics and program operations.

The CSFP Participant Characteristics and Program Operations (CSFP PCPO) study will provide nationally representative information on CSFP participants and local program operations. Through this study, FNS aims to better understand who is participating in the program, how the program is operated, and successes and challenges in implementing CSFP. Findings from the study will help to identify program needs and inform decisions at the Federal, State, and local levels about program administration and potential policy decisions.

The objectives of this study are to: (1) provide a sociodemographic and health profile of CSFP participants; (2) describe CSFP participants' use of the program and its contribution to their food supply; (3) provide descriptive information on key aspects of CSFP operations at the State and local agency level; and (4) describe the participants' experience with, and perceptions of, CSFP.

The study will consist of surveys with three populations: (a) all CSFP State agencies, (b) all CSFP local agencies, and (c) a sample of CSFP participants from a nationally representative sample of CSFP distribution sites. We define distribution sites as any location that distributes CSFP food packages directly to CSFP participants. The study will also request administrative data from local agencies with information on their distribution site characteristics, which will be used for sampling for the participant survey, as well as de-identified data on participant demographics and program use if available.

Affected Public: Members of the public affected by the data collection include State, Tribal, and Local Government; not for profit organizations; and individuals. Respondent groups identified include: (1) CSFP State agency directors, (2) CSFP local agency managers, (3) CSFP distribution site staff, and (4) CSFP participants.

Estimated Number of Respondents: The total estimated number of unique respondents, which includes everyone contacted for data collection regardless of whether they participate, is 8,032—which includes 1,657 respondents and 6,375 non-respondents. The respondents are composed of 60 CSFP State agency staff, 250 local agency staff, 222 CSFP distribution site staff, and 7,500 CSFP participants. 7,500 CSFP participants will be recruited to complete the survey, but we estimate that only 15%, or 1,125 will complete the survey.

Estimated Number of Responses per Respondent: All respondents will be asked to respond to each specific data collection activity only once. CSFP State agency staff, CSFP local agency staff, and CSFP participants will each be asked to complete one survey. CSFP local agency staff will also be asked once for a set of administrative data on their distribution sites and deidentified information on participant attendance patterns. CSFP distribution site staff will be asked to help recruit CSFP participants at their distribution site, which will involve a planning conversation between the distribution site and the study contractor, distribution of recruitment materials to CSFP participants, and distribution of surveys to CSFP participants when they receive their food package.

Estimated Total Annual Responses: The estimated number of total annual responses is 8,282; this includes 1,907 responses from 1,657 respondents and 6,375 responses from 6,375 non-respondents.

Estimated Time per Response: For respondents, the estimated time of response varies from 45 minutes to 4 hours depending on the data collection activity, as shown in the table below.

Estimated Total Annual Burden on Respondents: 3,139 hours; this includes 2,820 hours for respondents and 319 hours for non-respondents. See the table below for estimated total annual burden for each type of respondent and data collection activity.

Total Estimated Annualized Public Burden Hours ¹
Respondent | Data collection activity | Estimated number of respondents | Total number of responses per respondent | Total annual responses | Average burden hours per response | Total annual burden hours
CSFP State Agency Staff | State Agency Survey | 60 | 1 | 60 | 1.00 | 60.00
CSFP Local Agency Staff | Local Agency Survey | 250 | 1 | 250 | 1.00 | 250.00
| Local Agency Administrative Data Submission | 250 | 1 | 250 | 4.00 | 1,000.00
CSFP Distribution Site Staff | Assisting with Recruitment for Participant Survey | 222 | 1 | 222 | 3.00 | 666.00
CSFP Participants | CSFP Participant Survey (Respondents) | 1,125 | 1 | 1,125 | 0.75 | 843.75
| CSFP Participant Survey (Non-Respondents) | 6,375 | 1 | 6,375 | 0.05 | 318.75
Total: |  | 8,032 | 1 | 8,282 | 0.38 | 3,138.50
¹ The total burden hours presented here provide information assuming the maximum number of respondents for State agency surveys, local agency surveys, and outreach to distribution sites for help with recruiting CSFP participants.

Tameka Owens,
Acting Administrator and Assistant Administrator, Food and Nutrition Service.

[FR Doc. 2024-17341 Filed 8-5-24; 8:45 am]

BILLING CODE 3410-30-P